DEPARTMENT OF COMMERCE

National Oceanic and Atmospheric Administration

50 CFR Part 635

RIN 0648-BB29

Atlantic Highly Migratory Species; Atlantic Shark Management Measures

AGENCY: National Marine Fisheries Service (NMFS), National Oceanic and Atmospheric Administration (NOAA), Commerce.

ACTION: Notice of intent to prepare an environmental impact statement; request for comments.

SUMMARY: The National Marine Fisheries Service is considering the inclusion of Gulf of Mexico blacktip sharks in an amendment to the 2006 Consolidated Highly Migratory Species Fishery Management Plan that is currently under development. This amendment process began in October 2011 to address the results of recent stock assessments for scalloped hammerhead, dusky, sandbar, and blacknose sharks. A new stock assessment is ongoing for Gulf of Mexico blacktip sharks, and is expected to be complete and available before the amendment process is completed. Therefore, we are considering including Gulf of Mexico blacktip sharks in the amendment to ensure any changes in the shark fisheries as a result of recent stock assessments are considered at the same time for public clarity and for administrative efficiency.

DATES: Comments must be received no later than 5 p.m., local time, on June 21, 2012.

ADDRESSES: You may submit comments on this document, identified by NOAA-NMFS-2011-0229, by any of the following methods:

• Electronic Submission: Submit all electronic public comments via the Federal eRulemaking Portal www.regulations.gov. To submit comments via the eRulemaking Portal, first click the “submit a comment” icon, then enter NOAA-NMFS-2011-0229 in the keyword search. Locate the document you wish to comment on from the resulting list and click on the “Submit a Comment” icon on the right of that line.

• Mail: Submit written comments to Peter Cooper, 1315 East-West Highway, Silver Spring, MD 20910. Please mark the outside of the envelope “Comments on including Gulf of Mexico blacktip sharks in Amendment 5 to the Consolidated HMS FMP.”

• Fax: (301) 713-1917. Attn: Peter Cooper.

Comments must be submitted by one of the above methods to ensure that the comments are received, documented, and considered by the National Marine Fisheries Service. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. We will accept anonymous comments (enter “N/A” in the required fields if you wish to remain anonymous). Attachments to electronic comments will be accepted in Microsoft Word or Excel, WordPerfect, or Adobe PDF file formats only.

FOR FURTHER INFORMATION CONTACT: Karyl Brewster-Geisz or Peter Cooper at (301) 427-8503, or online at http://www.nmfs.noaa.gov/sfa/hms/ or http://www.sefsc.noaa.gov/sedar/Index.jsp.

SUPPLEMENTARY INFORMATION: The Atlantic shark fisheries are managed under the authority of the Magnuson-Stevens Fishery Conservation and Management Act. The 2006 Consolidated Highly Migratory Species Fishery Management Plan is implemented by regulations at 50 CFR part 635.

The National Marine Fisheries Service published a notice of intent to prepare an Environmental Impact Statement as required by the National Environmental Policy Act to amend the fishery management plan on October 7, 2011(76 FR 62331). This amendment is designed to rebuild and/or end overfishing on several shark stocks that were determined to be overfished and/or have overfishing occurring. We anticipate completing this amendment and any related documents in April 2013.

In December 2011, the Southeast Data, Assessment and Review 29 stock assessment process for Gulf of Mexico blacktip sharks began. This process has included, among other things, a data and assessment workshop along with two assessment webinars that have been open to the public to attend. A third assessment webinar is expected in late May. According to the schedule of events for the assessment, the assessment should be completed in August 2012.

Therefore, we are expecting the final assessment results in early Fall 2012. Because final results of the assessment would be available in the Fall before the amendment is finalized in April 2013, we are considering adding Gulf of Mexico blacktip sharks to the amendment. We believe that this addition would facilitate administrative efficiency by optimizing our resources, and would allow us to address new scientific information in the most timely manner. This addition would also provide better clarity to and understanding by the public regarding any possible impacts of the rulemaking on shark fisheries by combining potential management measures resulting from recent shark stock assessments into one rulemaking.

Gulf of Mexico blacktip sharks are currently managed within the non-sandbar large coastal shark (LCS) complex and are caught in recreational and commercial fisheries targeting sharks. Commercial regulations for blacktip sharks include, but are not limited to, a trip limit of 33 non-sandbar LCS for directed shark permit holders and a trip limit of 3 non-sandbar LCS for incidental shark permit holders. Gulf of Mexico blacktip sharks are part of the non-sandbar LCS annual Gulf of Mexico quota of 390.5 mt dw, which is adjusted each year for any overharvest from past fishing years. Recreational regulations for blacktip sharks include, but are not limited to, retention limit of 1 shark per vessel per trip with a 4.5-ft (54-in) fork length minimum size.

We may consider adjusting or implementing management measures for Gulf of Mexico blacktip sharks in this amendment based on the results of the current stock assessment. These measures for Gulf of Mexico blacktip sharks could include, but are not limited to, implementing a specific commercial quota outside of the non-sandbar LCS quota, modifying commercial trip limits, and adjusting recreational retention limits.

We request comments regarding the addition of Gulf of Mexico blacktip sharks to the amendment. These comments will help determine if we should move forward with adding Gulf of Mexico blacktip sharks to the amendment.

Authority: 16 U.S.C. 1801 et seq.

Dated: May 22, 2012.
Carrie Selberg,
Acting Director, Office of Sustainable Fisheries, National Marine Fisheries Service.

[FR Doc. 2012-12976 Filed 5-25-12; 8:45 am]

BILLING CODE 3510-22-P